NUCLEAR REGULATORY COMMISSION

10 CFR Part 72

[NRC-2022-0109]

RIN 3150-AK86

List of Approved Spent Fuel Storage Casks: Holtec International HI-STORM 100 Cask System, Certificate of Compliance No. 1014, Renewal of Initial Certificate and Amendment Nos. 1 Through 15; Correction

AGENCY: Nuclear Regulatory Commission.

ACTION: Direct final rule; correction and announcement of effective date.

SUMMARY: The U.S. Nuclear Regulatory Commission (NRC) is correcting and announcing the effective date for the direct final rule that was published in the Federal Register on February 13, 2023. The direct final rule renews the initial certificate (Amendment 0) and Amendment Nos. 1 through 15 of the Holtec International HI-STORM 100 Certificate of Compliance No. 1014 for 40 years and revises the certificate of compliance's conditions and technical specifications to address aging management activities related to the structures, systems, and components important to safety of the dry storage system to ensure that these will maintain their intended functions during the period of extended storage operations.

DATES: The effective date of the direct final rule published February 13, 2023 (88 FR 9106), which was delayed indefinitely on April 26, 2023 (88 FR 25271), is August 2, 2023, and the correction set out at the end of this document is effective August 2, 2023.

ADDRESSES: Please refer to Docket ID NRC-2022-0109 when contacting the NRC about the availability of information for this action. You may obtain publicly available information related to this action by any of the following methods:

• Federal Rulemaking Website: Go to https://www.regulations.gov and search for Docket ID NRC-2022-0109. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Maryland 20852. To make an appointment to visit the PDR, please send an email to PDR.Resource@nrc.gov or call 1-800-397-4209 or 301-415-4737, between 8 a.m. and 4 p.m. eastern time, Monday through Friday, except Federal holidays.

• NRC's PDR: You may examine and purchase copies of public documents at the NRC's PDR, Room P1-B35, One White Flint North, 11555 Rockville Pike, Rockville, Maryland 20852.

FOR FURTHER INFORMATION CONTACT: Kristina Banovac, Office of Nuclear Materials Safety and Safeguards, telephone: 301-415-7116, email: Kristina.Banovac@nrc.gov and James Firth, Office of Nuclear Materials Safety and Safeguards, telephone: 301-415-6628, email: James.Firth@nrc.gov. Both are staff of the U.S. Nuclear Regulatory Commission, Washington, DC 20555-0001.

SUPPLEMENTARY INFORMATION:

I. Discussion

On February 13, 2023 (88 FR 9106), the NRC published a direct final rule amending its regulations in part 72 of title 10 of the Code of Federal Regulations (10 CFR) to revise the Holtec International HI-STORM 100 Cask System listing within the “List of approved spent fuel storage casks” to renew the initial certificate (Amendment No. 0) and Amendment Nos. 1 through 15 to Certificate of Compliance No. 1014. The renewal of the initial certificate and Amendment Nos. 1 through 15 for 40 years revised the certificate of compliance's conditions and technical specifications to address aging management activities related to the structures, systems, and components important to safety of the dry storage system to ensure that these will maintain their intended functions during the period of extended storage operations.

In the direct final rule, published on February 13, 2023, the NRC stated that if no significant adverse comments were received, the direct final rule would become effective on May 1, 2023. The comment period closed on March 15, 2023; however, on March 22, 2023, in response to requests for an extension of the public comment period, the NRC reopened the public comment period to allow the public more time to comment on the action (88 FR 17164). The re-opened comment period closed on April 14, 2023. On April 26, 2023 (88 FR 25271), the NRC published a document that indefinitely delayed the effective date of the direct final rule to provide the NRC staff sufficient time to evaluate and respond to public comments.

The NRC received eight comment submissions on the companion proposed rule published on February 13, 2023 (88 FR 9195). The comments were submitted by four individuals, and a joint comment was provided on behalf of five nongovernmental organizations. An electronic copy of the comment submissions can be obtained from the Federal rulemaking website https://www.regulations.gov under Docket ID NRC-2022-0109. The comments are also available in ADAMS using the Accession numbers shown in the table in the “Availability of Documents” section of this document.

The NRC binned the comments by topic and evaluated the comments using the criteria stated in the direct final rule. The NRC is providing a response to the comments in section II. of this document, “Public Comment Responses.” Some comments were not unique to this action, in that they raised issues the NRC has addressed in previous spent fuel storage actions, (e.g., guidance for evaluating the aging management programs). Other comments were on topics that are outside of the scope of this rulemaking, such as transportation, cask design bases, and storage at a consolidated interim storage facility. In addition, some comments pertain to the regulations in 10 CFR part 72 rather than the safety of the Holtec International HI-STORM 100 Cask System design and are also outside of the scope of this rulemaking.

For ease of reference, the criteria for a significant adverse comment are repeated here:

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule, certificate of compliance, or technical specifications.

The NRC evaluated the comments against these criteria and determined that the public comments received on this action did not warrant any additions or changes (other than editorial) to the final rule, the certificates of compliance, or the accompanying technical specifications. The NRC is not making substantive changes to the rule; it is apparent that the rule is effective and acceptable as proposed, without the need for a substantive change or addition. The comments did not raise a relevant issue that was not previously addressed or considered by the NRC, and the comments did not cause the NRC to either: (1) reevaluate or reconsider its position, or (2) conduct additional analyses.

The NRC has determined that none of the comments were significant adverse comments. Therefore, the NRC is correcting and confirming the direct final rule amending the listing for Certificate of Compliance No. 1014, the Holtec International HI-STORM 100 Cask System design, to renew the NRC's approval of the certificate of compliance and is announcing the effective date.

II. Public Comment Responses

Comment: The joint comment raised concerns regarding the transport of storage canisters under 10 CFR part 71.

Response: This rulemaking only applies to the use of the Holtec International HI-STORM 100 Cask System design in an independent spent fuel storage installation at power reactor sites. The use of a component of the Holtec International HI-STORM 100 Cask System design—the multi-purpose canister—in transportation, would fall under NRC's regulations in 10 CFR part 71, which is outside of the scope of this rulemaking. Allowing the Holtec International HI-STORM 100 Cask System design to be used for the storage of spent fuel under the general license issued by 10 CFR 72.210 neither affects nor contributes to the evaluation of its use during transportation.

Comment: The joint comment re-submitted a comment that had previously been submitted to the NRC on the Interim Storage Partners Consolidated Interim Storage Facility Project Draft Environmental Impact Statement regarding the need to consider the foreseeable environmental impacts of the entire project, including transporting spent nuclear fuel to and from the proposed Consolidated Interim Storage Facility in Texas.

Response: This rulemaking action only approves the use of the Holtec International HI-STORM 100 Cask System design under the renewed Certificate of Compliance No. 1014 for the initial certificate (Amendment No. 0) and Amendment Nos. 1 through 15 under the general license issued by 10 CFR 72.210, which involves the storage of spent nuclear fuel in an independent spent fuel storage installation at power reactor sites. This does not include the use of the Holtec International HI-STORM 100 Cask System design at a consolidated interim storage facility. This comment is outside the scope of this rulemaking. Additionally, the use of a Holtec International HI-STORM 100 Cask System design at a consolidated interim storage facility would be authorized under a specific license and, before such approval would be granted, there would be an opportunity to request a hearing and to petition to intervene.

Comment: Three comments raised concerns regarding the design bases for the Holtec International HI-STORM 100 Cask System design.

Response: Pursuant to 10 CFR part 72, the design bases for a cask system design include reference bounds for the design and analyses of postulated accidents caused by severe natural events and severe human-induced events. The renewal of the Holtec International HI-STORM 100 Cask System design does not involve reevaluation of the approved design bases, changes to the approved design bases, nor changes to the fabrication of the cask system. Rather, the renewal requires aging management programs to ensure that structures, systems, and components important to safety will continue to perform their intended functions, as designed, during the period of extended operation, thus maintaining the approved design bases during the period of extended operation. The issue of approved design bases is outside of the scope of this rulemaking.

Comment: The joint comment objected to the use of the direct final rule process by the NRC and requested the NRC withdraw the direct final rule. The comment stated that the direct final rule process was not appropriate because the rule appears to be controversial and because the process appears to violate the National Environmental Policy Act of 1969 and the Administrative Procedure Act (APA). The comment noted that the direct final rule does not fall within the good cause exception in 10 CFR 2.804(d).

Response: The NRC disagrees with this comment. Direct final rulemaking ¹ is a process for expediting the issuance of noncontroversial rules and is a variation on section 553 notice-and-comment rulemaking under the APA. The NRC issued a direct final rule and a companion proposed rule in the same issue of the Federal Register and requested public comment. In the NRC's description of the direct final rulemaking process, the NRC explains that a direct final rule, while not explicitly delineated by the APA, does comply with the APA and includes all of the essential elements of rulemaking required by the APA. In this rulemaking, the NRC has provided notice and opportunity for comment; a statement of basis and purpose; and publication of the rule not less than 30 days prior to its effective date (see, https://www.nrc.gov/about-nrc/regulatory/rulemaking/rulemaking-process/direct-final-rule.html).

¹ The Administrative Conference of the United States (ACUS) has endorsed the use of the direct final rule process as a means for expediting rulemaking (see ACUS Recommendation 95-4, “Procedures for Non-Controversial and Expedited Rulemaking” (60 FR 43110; August 18, 1995)).

The NRC's requirements at 10 CFR part 72 currently list 15 approved certificates of compliance for spent fuel storage casks. NRC has conducted rulemaking to renew six of these certificates of compliance. All six certificate of compliance renewals included aging management programs and involved 40-year terms. The Agency considers these prior rulemaking actions to be non-controversial because the NRC either did not receive any comments opposing the renewals or did not receive any significant adverse comments. The NRC's decision to use the direct final rulemaking process for the renewal of Certificate of Compliance No. 1014 (Holtec International HI-STORM 100 Cask System design) was based on this experience.

Additionally, this rulemaking did adhere to the requirements of the National Environmental Policy Act of 1969. In the direct final rule, the NRC published an environmental assessment and a final finding of no significant impact. The NRC previously considered the impacts from the continued storage of spent fuel, including in the Generic Environmental Impact Statement for Continued Storage of Spent Nuclear Fuel: Final Report (NUREG-2157, Volumes 1 and 2) (2014).

Comment: One commenter requested the NRC make all the renewed amendments expire on the same day. The commenter noted the expiration dates for the early certificates (i.e., the initial certificate (Amendment No. 0) and Amendment Nos. 1 through 6) have an expiration date of June 1, 2020; however, the later Amendment certificates have an expiration date of May 31, 2020.

Response: The NRC agrees with this comment regarding an editorial issue. This change has no substantive effect on the requirements; because this comment is limited to editorial changes that do not affect the renewal of the certificate of compliance, it is not considered to be a significant adverse comment. The NRC has made editorial corrections to the certificates of compliance in response to this comment.

Comment: The NRC received two comments on the topic of NRC's generic technical basis for canister cracking, the canister aging management program, and the need for periodic reviews and updates to the aging management programs based on new information from research and operating experience. The NRC also received a comment stating that NRC should track the U.S. Department of Energy's (DOE's) research efforts in this area and that the DOE's ongoing research does not support the NRC conclusions in its Safety Evaluation Report. This comment also noted that comparing the applicant's aging management program elements to program elements developed by industry does not constitute sufficient due diligence by NRC.

Response: The NRC previously considered and addressed these concerns during the development of its general technical basis for canister aging management. The NRC established a generic technical basis for the safety review of storage renewal applications through guidance in NUREG-2214, “Managing Aging Processes in Storage (MAPS) Report.” NUREG-2214 establishes a generic technical basis in terms of the evaluation of (1) aging mechanisms and effects that could affect the ability of structures, systems, and components important to safety to fulfill their safety functions in the period of extended operation (i.e., credible aging mechanisms and effects) and (2) aging management approaches to address credible aging effects, including examples of aging management programs that are considered generically acceptable to address the credible aging effects to ensure that the design bases will be maintained in the period of extended operation.

The NRC sought public input during development of NUREG-2214 and related guidance. The NRC responded to the public comments on the draft guidance and finalized the guidance after considering the comments provided by the public. The NRC issued its responses at the time it announced the issuance of NUREG-2214 (84 FR 39022; August 8, 2019), NUREG-1927, Revision 1, “Standard Review Plan for Renewal of Specific Licenses and Certificates of Compliance for Dry Storage of Spent Nuclear Fuel” (81 FR 44054; July 6, 2016), and NUREG-2224, “Dry Storage and Transportation of High Burnup Spent Nuclear Fuel” (85 FR 77267; December 1, 2020). The comments submitted on this rulemaking did not provide new information that was not previously considered during the development of this NRC guidance.

The NRC disagrees with the commenter's assertion about the significance of ongoing research and the extent to which it supports or contradicts NRC staff conclusions. This ongoing research is compatible with the NRC's conclusions in the NRC's Safety Evaluation Report. The NRC has conducted and continues to conduct research associated with stress corrosion cracking and coordinates its research efforts with DOE in this area. In addition, the NRC collaborates with DOE and national counterparts, consensus committees, industry, and international partners to share research, knowledge, and operating experience related to degradation and aging of cask systems. The NRC considers this pool of information in its regulatory framework for spent fuel storage.

The NRC recognizes that there will be new information gained in the period of extended operation, including operating experience and findings from research and development. Therefore, as described in NUREG-1927, NUREG-2214, and Regulatory Guide 3.76, “Implementation of Aging Management Requirements for Spent Fuel Storage Renewals” (86 FR 38506; July 21, 2021), aging management programs include learning aspects designed to appropriately address and respond to new information. These learning programmatic features are called “tollgates,” which offer a structured approach for: (1) periodically reviewing site-specific and industrywide operating experience and data from applicable research and industry initiatives at specific times during the period of extended operation; and (2) performing a safety assessment that confirms the program's effectiveness or otherwise identifies a need to enhance or modify the program in a timely manner to address any emerging aging issues.

As aging management inspections of canisters are performed at independent spent fuel storage installations, licensees and certificate of compliance holders will upload the inspection results to the Independent Spent Fuel Storage Installation Aging Management Institute of Nuclear Power Operations Database (AMID), and this operating experience will be shared across the industry through licensee access to this database by the independent spent fuel storage installation sites and by certificate of compliance holders. The implementation of tollgate assessments and use of AMID provides reasonable assurance that the aging management programs will continue to effectively manage aging effects during the period of extended operation.

The NRC disagrees with the commenter's statement regarding the comparison of the applicant's aging management program elements to program elements developed by industry. During the NRC's review of Holtec International's renewal application for the HI-STORM 100 Cask System design, the NRC evaluated Holtec International's technical basis for its aging management review and aging management programs and compared it to the generic technical basis in NUREG-2214. The generic technical basis in NUREG-2214 was developed by the NRC, not by the industry. The guidance in NUREG-2214 provides examples of aging management programs that are considered generically acceptable to address the credible aging mechanisms evaluated in the guidance to ensure that the design bases of the cask system will be maintained in the period of extended operation. The NRC found the Holtec International aging management program acceptable. The NRC Safety Evaluation Report documents the consistency between the applicant's canister aging management program and the NUREG-2214 canister aging management program.

Comment: The NRC received two comments regarding scratching and cracking of canisters. The first comment, from the joint comments, stated that NRC has not reviewed the long-term impact of the scraping, gouging, and scratching of canisters when they are loaded into the casks, including the potential for increased and accelerated corrosion. The second comment noted that the Holtec International HI-STORM 100 Cask System design above ground system may cause canisters to scratch and scrape against the carbon steel vertical channels in the overpack cask, leading to potential initiation of carbon‐induced pit corrosion cracking and a serious accelerated canister degradation condition.

Response: The comments on the topic of scratching and cracking of canisters do not introduce new information that was not already considered during the NRC's development of NUREG-2214 and during the review of Holtec International's renewal application for the Holtec HI-STORM 100 Cask System design. Welded stainless steel dry storage canisters, like those used in the HI-STORM 100 Cask System design, may contact dissimilar metal surfaces, and may get scraped, scratched, or gouged during handling and loading into the storage overpack. During the development of NUREG-2214, the NRC considered these potential effects and the potential for handling practices to result in the contact and transfer of carbon steel onto the surface of the stainless-steel canister.

NUREG-2214 identifies stress corrosion cracking as a credible aging effect for canisters and includes an aging management program for canisters to identify and manage localized corrosion (a potential precursor to stress corrosion cracking) and stress corrosion cracking. NUREG-2214 notes the potential for handling practices to result in contact and transfer of iron (i.e., carbon steel) onto the stainless-steel canister surface, which can create localized corrosion. The NUREG-2214 canister aging management program addresses aging effects and provides reasonable assurance that aging associated with any initial defects, scrapes, or effects of dissimilar materials being in contact will not compromise the intended functions of the canister during the period of extended operation.

NUREG-2214 provides examples of aging management programs that the NRC considers as being generically acceptable to address those credible aging mechanisms evaluated in the guidance to ensure that the design bases of dry storage systems will be maintained. In its review of the renewal application for the Holtec International HI-STORM 100 Cask System design, the NRC staff evaluated Holtec International's technical basis for its aging management review and aging management programs for the Holtec International HI-STORM 100 Cask System design and compared it to the generic technical basis in NUREG-2214. The NRC Safety Evaluation Report documents the consistency between the applicant's canister aging management program and the NUREG-2214 canister aging management program. Consistent with the NUREG-2214 canister aging management program, the Holtec International HI-STORM 100 Cask System design canister aging management program includes inspections of canister surfaces to identify the presence of red-orange corrosion deposits that may indicate iron transfer onto the stainless-steel canister surface. Any areas of corrosion that are found and identified are subject to additional examination and evaluation.

Additionally, the Holtec International HI-STORM 100 Cask System design canister aging management program includes criteria to inspect those canisters that are most susceptible to degradation. The aging management program for the Holtec International HI-STORM 100 Cask System design considers the susceptibility criteria in Electric Power Research Institute (EPRI) TR-3002005371, “Susceptibility Assessment Criteria for Chloride-Induced Stress Corrosion Cracking (CISCC) of Welded Stainless-Steel Canisters for Dry Cask Storage Systems” (referenced also in NUREG-2214). The EPRI report identifies areas of “mechanical damage (e.g., gouges)” and “scraping during handling” as being the most susceptible to aging. The concerns expressed in the comments (i.e., long-term effects of any scraping, gouging, and scratching of canisters or contact between dissimilar materials when canisters are loaded into the storage overpack including the potential for increased and accelerated corrosion) are addressed in the canister aging management program.

Comment: The joint comment expressed concern with radiation effects and dose limits.

Response: This comment raises issues that are outside of the scope of this rulemaking. The NRC establishes safety standards for protection against radiation, including public dose limits, in 10 CFR part 20, “Standards for Protection against Radiation.” The regulations in 10 CFR part 72 also include dose limits for spent fuel storage. The current requirements in 10 CFR parts 20 and 72 are protective of public health and safety and the environment.

III. Availability of Documents

The documents identified in this table are available to interested persons through one or more of the following methods, as indicated.

Document | Adams Accession No./Federal Register citation
Renewed Certificate of Compliance No. 1014, HI-STORM 100 Cask System Design
Renewal of Certificate of Compliance No. 1014, HI-STORM 100 Cask System. (Includes Renewed Certificates of Compliance; Approved Contents and Design Features; Technical Specifications; and Final Safety Evaluation Report) | ML23068A384 (package).
Final Safety Evaluation Report for the HI-STORM 100 Cask System: Certificate of Compliance No. 1014 Renewal, Docket No. 72-1014 | ML23068A455.
Rulemaking Documents
“List of Approved Spent Fuel Storage Casks: Holtec International HI-STORM 100 Cask System, Certificate of Compliance No. 1014, Renewal of Initial Certificate and Amendment Nos. 1 Through 15.” Direct final rule. (Includes environmental assessment and final finding of no significant impact) (February 13, 2023) | 88 FR 9106.
“List of Approved Spent Fuel Storage Casks: Holtec International HI-STORM 100 Cask System, Certificate of Compliance No. 1014, Renewal of Initial Certificate and Amendment Nos. 1 Through 15.” Proposed rule. (February 13, 2023) | 88 FR 9195.
“List of Approved Spent Fuel Storage Casks: Holtec International HI-STORM 100 Cask System, Certificate of Compliance No. 1014, Renewal of Initial Certificate and Amendment Nos. 1 Through 15;” Proposed rule; Reopening of comment period. (March 22, 2023) | 88 FR 17164.
“List of Approved Spent Fuel Storage Casks: Holtec International HI-STORM 100 Cask System, Certificate of Compliance No. 1014, Renewal of Initial Certificate and Amendment Nos. 1 Through 15; Delay of Effective Date.” Direct final rule; Delay of effective date. (April 26, 2027) | 88 FR 25271.
Comment (001) from Brian Gutherman on PR-72—List of Approved Spent Fuel Storage Casks: Holtec International HI-STORM 100 Cask System, Certificate of Compliance No. 1014, Renewal of Initial Certificate and Amendment Nos. 1 through 15 | ML23046A406.
Comment (002) from Renante Baniaga on PR-72—List of Approved Spent Fuel Storage Casks: Holtec International HI-STORM 100 Cask System, Certificate of Compliance No. 1014, Renewal of Initial Certificate and Amendment Nos. 1 through 15 | ML23046A407.
Comment (003) from Michael Ford on PR-72—List of Approved Spent Fuel Storage Casks: Holtec International HI-STORM 100 Cask System, Certificate of Compliance No. 1014, Renewal of Initial Certificate and Amendment Nos. 1 through 15 | ML23073A116.
Comment (004) from Kalene Walker on PR-72—List of Approved Spent Fuel Storage Casks: Holtec International HI-STORM 100 Cask System, Certificate of Compliance No. 1014, Renewal of Initial Certificate and Amendment Nos. 1 through 15 | ML23075A156.
Comment Period Extension Request from Nuclear Information and Resource Service, et al. on PR-72—List of Approved Spent Fuel Storage Casks: Holtec International HI-STORM 100 Cask System, Certificate of Compliance No. 1014, Renewal of Initial Certificate and Amendment Nos. 1 through 15 | ML23073A095.
Comment (005) from Nuclear Information and Resource Service, et al. on PR-72—List of Approved Spent Fuel Storage Casks: Holtec International HI-STORM 100 Cask System, Certificate of Compliance No. 1014, Renewal of Initial Certificate and Amendment Nos. 1 through 15 | ML23107A144.
Comment (006) from Michael Ford on PR-72—List of Approved Spent Fuel Storage Casks: Holtec International HI-STORM 100 Cask System, Certificate of Compliance No. 1014, Renewal of Initial Certificate and Amendment Nos. 1 through 15 | ML23108A278.
Comment (007) from Kalene Walker on PR-72—List of Approved Spent Fuel Storage Casks: Holtec International HI-STORM 100 Cask System, Certificate of Compliance No. 1014, Renewal of Initial Certificate and Amendment Nos. 1 through 15 | ML23108A279.
Environmental Documents
Generic Environmental Impact Statement for Continued Storage of Spent Nuclear Fuel: Final Report (NUREG-2157, Volumes 1 and 2) (2014) | ML14198A440 (package).
Other Documents
ACUS Recommendation 95-4, “Procedures for Non-Controversial and Expedited Rulemaking” (August 18, 1995) | 60 FR 43110.
“Standard Review Plan for Renewal of Specific Licenses and Certificates of Compliance for Dry Storage of Spent Nuclear Fuel.” NUREG-1927, Revision 1. Washington, DC. June 2016 | ML16179A148.
“Managing Aging Processes in Storage (MAPS) Report.” Final Report. NUREG-2214. Washington, DC. July 2019. | ML19214A111.
NUREG-2224, “Dry Storage and Transportation of High Burnup Spent Nuclear Fuel” (November 2020) | ML20191A321.
“Implementation of Aging Management Requirements for Spent Fuel Storage Renewals.” Regulatory Guide; Issuance (July 21, 2021) | 86 FR 38506.
Regulatory Guide 3.76, Revision 0, “Implementation of Aging Management Requirements for Spent Fuel Storage Renewals.” July 2021 | ML21098A022.
“Standard Review Plan for Renewal of Specific Licenses and Certificates of Compliance for Dry Storage of Spent Nuclear Fuel.” NUREG; Issuance. (July 6, 2016) | 81 FR 44054.
“Managing Aging Processes in Storage (MAPS) Report.” NUREG; Issuance. (August 8, 2019) | 84 FR 39022.
“Dry Storage and Transportation of High Burnup Spent Nuclear Fuel.” NUREG; Issuance. (December 1, 2020) | 85 FR 77267.
EPRI TR-3002005371, “Susceptibility Assessment Criteria for Chloride-Induced Stress Corrosion Cracking (CISCC) of Welded Stainless-Steel Canisters for Dry Cask Storage Systems” (September 18, 2015) | https://www.epri.com/research/ products/3002005371.
“Direct Final Rule” | https://www.nrc.gov/about-nrc/ regulatory/rulemaking/ rulemaking-process/ direct-final-rule.html.

The direct final rule published on February 13, 2023 (88 FR 9106), which was delayed indefinitely on April 26, 2023 (88 FR 25271), is confirmed. The direct final rule is effective on August 2, 2023, and the following correction is effective August 2, 2023.

Correction of Direct Final Rule

In FR 2023-03002, published at 88 FR 9106 on February 13, 2023, on page 9116, in the second and third columns, remove the date “May 1, 2023” wherever it appears and add “August 2, 2023” in its place.

Dated: June 27, 2023.
For the Nuclear Regulatory Commission.
Catherine Haney,
Acting Executive Director for Operations.

[FR Doc. 2023-13992 Filed 6-30-23; 8:45 am]

BILLING CODE 7590-01-P